DEPARTMENT OF DEFENSE

Office of the Secretary

[Transmittal No. 25-27]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-27, Policy Justification, and Sensitive of Technology.

Dated: January 8, 2026.
Stephanie J. Bost,
Alternate OSD Federal Register Liaison Officer, Department of Defense.

BILLING CODE 6001-FR-P

BILLING CODE 6001-FR-C

Transmittal No. 25-27

Notice of Proposed Issuance of Letter of Offer Pursuant to Section 36(b)(1) of the Arms Export Control Act, as amended

(i) Prospective Purchaser: Government of Ireland

(ii) Total Estimated Value:

Major Defense Equipment * | $25 million
Other | $21 million
TOTAL | $46 million

(iii) Description and Quantity or Quantities of Articles or Services under Consideration for Purchase: Foreign Military Sales (FMS) case EI-B-UDF was below congressional notification threshold at $8.7 million ($7.9 million in MDE) and included forty-four (44) FGM-148 Javelin missiles. The Government of Ireland has requested that the case be amended to include thirty-six (36) Lightweight Command Launch Units (LwCLU). This amendment will cause the case to exceed the notification threshold, and thus notification of the entire program is required. The above notification requirements are combined as follows:

Major Defense Equipment (MDE):

Forty-four (44) FGM-148 Javelin missiles

Thirty-six (36) Lightweight Command Launch Units (LwCLUs)

Non-Major Defense Equipment:

The following non-MDE items will also be included: missile containers; United States (U.S.) Government technical assistance; Enhanced Producibility Basic Skills Trainers (EPBST); training; and other related elements of logistics and program support.

(iv) Military Department: Army (EI-B-UDF)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: April 23, 2025

* as defined in Section 47(6) of the Arms Export Control Act.

POLICY JUSTIFICATION

Ireland—FGM-148 Javelin Missiles and Lightweight Command Launch Units

The Government of Ireland has requested to buy thirty-six (36) Lightweight Command Launch Units (LwCLUs) that will be added to a previously implemented case whose value was under the congressional notification threshold. The original Foreign Military Sales (FMS) case, valued at $8.7 million ($7.9 million in MDE), included forty-four (44) FGM-148 Javelin missiles. This notification is for a combined total of forty-four (44) FGM-148 Javelin missiles and thirty-six (36) Lightweight Command Launch Units (LwCLUs). The following non-MDE items will also be included: missile containers; U.S. Government technical assistance; Enhanced Producibility Basic Skills Trainers (EPBST); training; and other related elements of logistics and program support. The estimated total cost is $46 million.

This proposed sale will support the foreign policy and national security of the U.S. by improving the security and capabilities of Ireland to support its participation in peacekeeping missions with the United Nations and NATO's Partnership for Peace program.

The proposed sale will enhance Ireland's capability to build its long-term defense capacity to defend its sovereignty and territorial integrity to meet its national defense requirements. Ireland will have no difficulty absorbing this equipment into its armed forces.

The proposed sale of this equipment and support will not alter the basic military balance in the region.

The prime contractors will be the Javelin Joint Venture between Lockheed Martin, located in Orlando, FL, and RTX Corporation, located in Tucson, AZ. At this time, the U.S. Government is not aware of any offset agreement proposed in connection with this potential sale. Any offset agreement will be defined in negotiations between the purchaser and the contractor.

Implementation of this proposed sale will not require the assignment of any additional U.S. Government or contractor representatives to Ireland.

There will be no adverse impact on U.S. defense readiness as a result of this proposed sale.

Transmittal No. 25-27

Notice of Proposed Issuance of Letter of Offer Pursuant to Section 36(b)(1) of the Arms Export Control Act

Annex

Item No. vii

(vii) Sensitivity of Technology:

1. The Javelin Weapon System is a medium-range, man-portable, shoulder-launched, fire-and-forget anti-tank system for infantry, scouts, and combat engineers. It may also be mounted on a variety of platforms including vehicles, aircraft, and watercraft. The system weighs 49.5 pounds and has a maximum range in excess of 2,500 meters. The system is highly lethal against tanks and other systems with conventional and reactive armors and possesses a secondary capability against bunkers.

2. Javelin's key technical feature is the use of fire-and-forget technology that allows the gunner to fire and immediately relocate or take cover. Additional special features are the top attack and direct fire modes, an advanced tandem warhead and imaging infrared seeker, target lock-on before launch, and soft launch from enclosures or covered fighting positions. The Javelin missile also has a minimum smoke motor to decrease the likelihood of detection on the battlefield.

3. The Javelin Weapon System is comprised of two major tactical components, a reusable Light Weight Command Launch Unit (LwCLU) and a missile contained in a disposable launch tube assembly. The LwCLU incorporates an integrated day/night sight that provides target engagement capability in adverse weather and countermeasure environments and may also be used in a stand-alone mode for battlefield surveillance and target detection. The LwCLU's thermal sight is a 3rd generation forward looking infrared sensor. The LwCLU also serves to upload missile software updates.

4. The Javelin missile is autonomously guided to the target using an imaging infrared seeker and adaptive correlation tracking algorithms. This allows the gunner to take cover or reload and engage another target after firing a missile. An onboard flight computer guides the missile to the selected target.

5. The highest level of classification of defense articles, components, and services included in this potential sale is SECRET.

6. If a technologically advanced adversary were to obtain knowledge of the specific hardware and software elements, the information could be used to develop countermeasures that might reduce system effectiveness or be used in the development of a system with similar or advanced capabilities.

7. A determination has been made that Ireland can provide the same degree of protection for the sensitive technology being released as the U.S. Government. This sale is necessary in furtherance of the U.S. foreign policy and national security objectives outlined in the Policy Justification.

8. All defense articles and services listed in this transmittal are authorized for release and export to the Government of Ireland.

[FR Doc. 2026-00397 Filed 1-12-26; 8:45 am]

BILLING CODE 6001-FR-P